DEPARTMENT OF THE TREASURY

Open Meeting of the Federal Advisory Committee on Insurance

AGENCY: Departmental Offices, Treasury.

ACTION: Notice of Open Meeting; Time change.

SUMMARY: This notice announces a change in the time of the next meeting of the Department of the Treasury's Federal Advisory Committee on Insurance (FACI). The FACI will convene the meeting on Wednesday, November 14, 2012, at the Department of the Treasury, in the Cash Room, 1500 Pennsylvania Avenue NW., Washington, DC 20020, beginning at 1:30 p.m. Eastern Time. The meeting will be open to the public.

DATES: The meeting will be held on November 14, 2012, commencing at 1:30 p.m. Eastern Time.

FOR FURTHER INFORMATION CONTACT: James P. Brown, Senior Policy Advisor to the Federal Insurance Office, Department of the Treasury, 1425 New York Avenue NW., Room 2100, Washington, DC 20220, at (202) 622-6910 (this is not a toll-free number). Persons who have difficulty hearing or speaking may access this number via TTY by calling the toll-free Federal Relay Service at 800-877-8339.

SUPPLEMENTARY INFORMATION: On October 11, 2012, the Department published in the Federal Register (77 FR 61827) a notice announcing the next meeting of the Federal Advisory Committee on Insurance. The time for the November 14, 2012 meeting of the Federal Advisory Committee on Insurance has been changed from 10:00 a.m.-1:00 p.m. to 1:30-4:30 p.m. All other information contained in the original notice remains the same.

James P. Brown,
Designated Federal Officer, Federal Advisory Committee on Insurance.

[FR Doc. 2012-27282 Filed 11-6-12; 8:45 am]

BILLING CODE 4810-25-P